DEPARTMENT OF TRANSPORTATION

Coast Guard

[USCG-2000-7222]

Collection of Information Under Review by Office of Management and Budget (OMB): OMB Control Numbers 2115-0017, 2115-0611, 2115-0573, and 2115-0630

AGENCY: Coast Guard, DOT.

ACTION: Request for comments.

SUMMARY: In compliance with the Paperwork Reduction Act of 1995, the Coast Guard intends to request the approval of OMB for the renewal of four Information Collection Requests (ICRs). These ICRs comprise: (1) Regattas and Marine Parades; (2) Boat Owner's Report, Possible Safety Defect; (3) Labeling Requirements in 33 CFR Parts 181 and 183; and (4) International Safety Management Code Audit Reports. Before submitting the ICRs to OMB, the Coast Guard is asking for comments on the collections described below.

DATES: Comments must reach the Coast Guard on or before June 12, 2000.

ADDRESSES: You may mail comments to the Docket Management System (DMS) [USCG-2000-7222], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The Docket Management Facility maintains the public docket for these requests. Comments will become part of this docket and will be available for inspection or copying in room PL-401, located on the Plaza Level of the Nassif Building at the above address between 9 a.m. and 5 p.m., Monday through Friday, except Federal holidays. You may also access this docket on the Internet at http://dms.dot.gov.

Copies of the complete ICRs are available through this docket on the Internet at http://dms.dot.gov and also from Commandant (G-SII-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; Dorothy Walker, Chief, Documentary Services Division, U.S. Department of Transportation, 202-366-9330, for questions on the docket.

Request for Comments

The Coast Guard encourages interested persons to submit written comments. Persons submitting comments should include their names and addresses, identify this document [USCG-2000-7222] and the specific ICR to which each comment applies, and give the reason(s) for each comment. Please submit all comments and attachments in an unbound format no larger than 8½ by 11 inches, suitable for copying and electronic filing. Persons wanting acknowledgment of receipt of comments should enclose stamped, self-addressed postcards or envelopes.

Information Collection Requests

1. Title: Regattas and Marine Parades.

OMB Control Number: 2115-0017.

Summary: 46 U.S.C. 1233 authorizes the Coast Guard to issue rules to promote the safety of life on navigable waters during regattas or marine parades. 33 CFR 100.17 and 100.18 promulgate the rules for providing notice of, and additional information for permitting, regattas and marine parades (marine events) to the Coast Guard.

Need: The Coast Guard needs to determine whether a marine event may present a substantial threat to the safety of human life on navigable waters and determine which measures are necessary to ensure the safety of life during the events. Sponsors must notify the Coast Guard of the event and provide additional information, as required. This is an efficient means for the Coast Guard to learn of the events and to address environmental impacts.

Respondents: Sponsors of marine events.

Frequency: On occasion.

Burden: The estimated burden is 1,540 hours annually.

2. Title: Boat Owner's Report, Possible Safety Defect.

OMB Control Number: 2115-0611.

Summary: Owners of recreational boats or engines who believe their product contains a defect or fails to comply with safety standards can call the Coast Guard Infoline, which will send them a copy of the “Boat Owner's Report”, or they can file the report on-line at the website for the Office of Boating Safety.

Need: 46 U.S.C. 4310(f) gives the Coast Guard the authority to require manufacturers of recreational boats and associated equipment to notify owners and to replace or repair products that are defective or fail to comply with safety standards.

Respondents: Owners of recreational boats.

Frequency: One time.

Burden: The estimated burden is 80 hours annually.

3. Title: Labeling Requirements in 33 CFR Parts 181 and 183.

OMB Control Number: 2115-0573.

Summary: The collection of information requires manufacturers or importers of recreational boats to apply for serial numbers from the Coast Guard and to display various labels on these boats.

Need: Under 33 CFR, Parts 181 and 183, manufacturers or importers of recreational boats must obtain, from the Coast Guard, a manufacturer's identification code for each boat and must display various labels on these boats that provide safety information to the boating public.

Respondents: Manufacturers and importers of recreational boats.

Frequency: One time.

Burden: The estimated burden 382,798 hours annually.

4. Title: International Safety Management Code Audit Reports.

OMB Control Number: 2115-0630.

Summary: The Coast Guard uses this information collection to determine the compliance status of U.S. vessels, subject to SOLAS 74, engaged in international trade. Organizations recognized by the Coast Guard conduct ongoing audits of vessels' and companies' safety-management systems.

Need: 46 U.S.C. 3203 authorizes the Coast Guard to prescribe rules regarding safety-management systems. 33 CFR Part 96 contains the rules for the safe operation of vessels and of safety-management systems.

Respondents: Owners and operators of vessels, and organizations authorized to issue ISM Code certificates for the United States.

Frequency: On occasion.

Burden: The estimated burden is 3,650 hours annually.

Dated: March 29, 2000.
Daniel F. Sheehan,
Director of Information and Technology.

[FR Doc. 00-9250 Filed 4-12-00; 8:45 am]

BILLING CODE 4910-15-U